DEPARTMENT OF ENERGY

Office of Fossil Energy

[FE Docket No. 00-56-NG, et al.]

Engage Energy US, L.P., et al.; Orders Granting and Vacating Authority To Import and Export Natural Gas, Including Liquefied Natural Gas

AGENCY: Office of Fossil Energy, DOE.

ACTION: Notice of orders.

SUMMARY: The Office of Fossil Energy (FE) of the Department of Energy gives notice that during August 2000, it issued Orders granting and vacating authority to import and export natural gas, including liquefied natural gas (LNG). These Orders are summarized in the attached appendix and may be found on the FE web site at http://www.fe.doe.gov, or on the electronic bulletin board at (202) 586-7853. They are also available for inspection and copying in the Office of Natural Gas & Petroleum Import & Export Activities, Docket Room 3E-033, Forrestal Building, 1000 Independence Avenue, SW., Washington, DC 20585, (202) 586-9478. The docket room is open between the hours of 8:00 a.m. and 4:30 p.m., Monday through Friday, except Federal holidays.

Issued in Washington, D.C., on September 14, 2000.
John W. Glynn,
Manager, Natural Gas Regulation, Office of Natural Gas & Petroleum Import & Export Activities Office of Fossil Energy.

Appendix—Orders Granting and Vacating Import/Export Authorizations

DOE/FE Authority
Order No. | Date issued | Importer/Exporter FE Docket No. | Import volume | Export volume | Comments
1617 | 8-03-00 | Engage Energy US, L.P., 00-56-NG | 600 Bcf | 150 Bcf | Import combined total from Canada and Mexico, and export combined total to Canada and Mexico beginning on July 12, 2000, and extending through July 11, 2002.
1618 | 8-07-00 | Westcoast Gas Services Inc., 00-54-NG | 200 Bcf |  | Import and export a combined total from and to Canada, over a two-year term beginning on the date of first delivery.
1619 | 8-07-00 | Westcoast Energy (U.S.) Inc., 00-55-NG | 200 Bcf |  | Import and export a combined total from and to Canada, over a two-year term beginning on the date of first delivery.
1609 | 8-07-00 | Power City Partners, L.P., 00-47-NG |  |  | Errata notice. Ordering Paragraph A inadvertently authorized wrong volumes.
1620 | 8-10-00 | Northern States Power Company (Wisconsin), 00-57-NG | 20 Bcf |  | Import from Canada, over a two-year term beginning on the date of first delivery.
1621 | 8-17-00 | Applied LNG Technologies USA, L.L.C., 00-59-LNG |  | 5.2 Bcf | Export LNG to Mexico, over a two-year term beginning on August 19, 2000, and extending through August 18, 2002.
701-A | 8-22-00 | Distrigas Corporation, 92-93-LNG |  |  | Vacating long-term authority to import LNG from Nigeria.
1505-A | 8-24-00 | Sunoma Energy Corp., 99-55-NG |  |  | Vacating blanket authority to import from Canada.
1622 | 8-28-00 | Westcoast Gas Services Delaware (America) Inc., 00-58-NG | 1,000 Bcf | 1,000 Bcf | Import and export, including LNG from and to Canada, beginning on October 1, 2000, and extending through September 30, 2002.

[FR Doc. 00-24118 Filed 9-19-00; 8:45 am]

BILLING CODE 6450-01-P